DEPARTMENT OF ENERGY

Federal Energy Regulatory Commission

Combined Notice of Filings #1

Take notice that the Commission received the following electric corporate filings:

Docket Numbers: EC21-38-000.

Applicants: Imperial Valley Solar 2, LLC.

Description: Second Amendment to December 31, 2020 Application for Authorization Under Section 203 of the Federal Power Act of Imperial Valley Solar 2, LLC.

Filed Date: 3/8/21.

Accession Number: 20210308-5076.

Comments Due: 5 p.m. ET 3/12/21.

Docket Numbers: EC21-65-000.

Applicants: AEP Generation Resources Inc., Eagle Creek Racine Hydro, LLC.

Description: Joint Application for Authorization Under Section 203 of the Federal Power Act of AEP Generation Resources Inc., et. al.

Filed Date: 3/5/21.

Accession Number: 20210305-5276.

Comments Due: 5 p.m. ET 3/26/21.

Take notice that the Commission received the following exempt wholesale generator filings:

Docket Numbers: EG21-102-000.

Applicants: BigBeau Solar, LLC.

Description: Notice of Self-Certification of Exempt Wholesale Generator Status of BigBeau Solar, LLC.

Filed Date: 3/4/21.

Accession Number: 20210304-5213.

Comments Due: 5 p.m. ET 3/25/21.

Docket Numbers: EG21-103-000.

Applicants: Valley Center ESS, LLC.

Description: Notice of Self-Certification of Exempt Wholesale Generator Status of Valley Center ESS, LLC.

Filed Date: 3/8/21.

Accession Number: 20210308-5146.

Comments Due: 5 p.m. ET 3/29/21.

Take notice that the Commission received the following electric rate filings:

Docket Numbers: ER18-2224-011; ER20-2603-002.

Applicants: Pegasus Wind, LLC, Skeleton Creek Wind, LLC.

Description: Supplement to January 29, 2021 Notice of Non-Material Change in Status of Pegasus Wind, LLC, et al.

Filed Date: 3/5/21.

Accession Number: 20210305-5281.

Comments Due: 5 p.m. ET 3/26/21.

Docket Numbers: ER20-2705-002.

Applicants: Mankato Energy Center, LLC.

Description: Compliance filing: Compliance Filing to be effective 8/20/2020.

Filed Date: 3/8/21.

Accession Number: 20210308-5199.

Comments Due: 5 p.m. ET 3/29/21.

Docket Numbers: ER20-2706-002.

Applicants: Mankato Energy Center II, LLC.

Description: Compliance filing: Compliance Filing to be effective 8/20/2020.

Filed Date: 3/8/21.

Accession Number: 20210308-5203.

Comments Due: 5 p.m. ET 3/29/21.

Docket Numbers: ER21-708-002.

Applicants: PJM Interconnection, L.L.C.

Description: Tariff Amendment: Supplement and Correction: Original ISA, SA No. 5621; Queue No. AF1-195 to be effective 3/10/2020.

Filed Date: 3/5/21.

Accession Number: 20210305-5202.

Comments Due: 5 p.m. ET 3/26/21.

Docket Numbers: ER21-1289-000.

Applicants: Midcontinent Independent System Operator, Inc., American Transmission Company LLC.

Description: § 205(d) Rate Filing: 2021-03-08_SA 2797 ATC-Lake Mills Light and Water 1st Rev CFA to be effective 5/8/2021.

Filed Date: 3/8/21.

Accession Number: 20210308-5109.

Comments Due: 5 p.m. ET 3/29/21.

Docket Numbers: ER21-1290-000.

Applicants: Midcontinent Independent System Operator, Inc., American Transmission Company LLC.

Description: § 205(d) Rate Filing: 2021-03-08_SA 2767 ATC-Manitowoc Public Utilities 1st Rev CFA to be effective 5/8/2021.

Filed Date: 3/8/21.

Accession Number: 20210308-5112.

Comments Due: 5 p.m. ET 3/29/21.

Docket Numbers: ER21-1291-000.

Applicants: Midcontinent Independent System Operator, Inc., American Transmission Company LLC.

Description: § 205(d) Rate Filing: 2021-03-08_SA 2796 ATC-City of Kaukauna 1st Rev CFA to be effective 5/8/2021.

Filed Date: 3/8/21.

Accession Number: 20210308-5114.

Comments Due: 5 p.m. ET 3/29/21.

Docket Numbers: ER21-1292-000.

Applicants: Commonwealth Edison Company, PJM Interconnection, L.L.C.

Description: § 205(d) Rate Filing: ComEd submits revisions to Att. H-13 re: Magid Glove & Safety Mfg. Co. to be effective 3/9/2021.

Filed Date: 3/8/21.

Accession Number: 20210308-5117.

Comments Due: 5 p.m. ET 3/29/21.

Docket Numbers: ER21-1293-000.

Applicants: ISO New England Inc., NSTAR Electric Company.

Description: Compliance filing: NSTAR; Order No. 864 Supplementing Compliance Filings in ER20-2572 & ER21-1130 to be effective 1/1/2020.

Filed Date: 3/8/21.

Accession Number: 20210308-5136.

Comments Due: 5 p.m. ET 3/29/21.

Docket Numbers: ER21-1294-000.

Applicants: SunZia Transmission, LLC.

Description: Application for Revision of Negotiated Rate Authority, et al. of SunZia Transmission, LLC.

Filed Date: 3/8/21.

Accession Number: 20210308-5142.

Comments Due: 5 p.m. ET 3/29/21.

Docket Numbers: ER21-1295-000.

Applicants: ISO New England Inc., Eversource Energy Service Company (as agent).

Description: Compliance filing: Eversource; Order No. 864 Supplemental Compliance Filing-ER20-2572 and ER21-1130 to be effective 1/1/2020.

Filed Date: 3/8/21.

Accession Number: 20210308-5143.

Comments Due: 5 p.m. ET 3/29/21.

Docket Numbers: ER21-1296-000.

Applicants: Midcontinent Independent System Operator, Inc., American Transmission Company LLC.

Description: § 205(d) Rate Filing: 2021-03-08_SA 2795 ATC-City of Hartford 1st Rev CFA to be effective 5/8/2021.

Filed Date: 3/8/21.

Accession Number: 20210308-5147.

Comments Due: 5 p.m. ET 3/29/21.

Docket Numbers: ER21-1297-000.

Applicants: BigBeau Solar, LLC.

Description: Baseline eTariff Filing: Initial Market-Based Rate Petition of BigBeau Solar to be effective 5/8/2021.

Filed Date: 3/8/21.

Accession Number: 20210308-5170.

Comments Due: 5 p.m. ET 3/29/21.

Docket Numbers: ER21-1298-000.

Applicants: Wisconsin Public Service Corporation.

Description: § 205(d) Rate Filing: Filing of Annual Formula Rate of PEB and PBOP Changes to be effective 4/1/2021.

Filed Date: 3/8/21.

Accession Number: 20210308-5175.

Comments Due: 5 p.m. ET 3/29/21.

Docket Numbers: ER21-1299-000.

Applicants: Black Hills Colorado Electric, LLC.

Description: Compliance filing: WECC Soft Offer Cap to be effective N/A.

Filed Date: 3/8/21.

Accession Number: 20210308-5229.

Comments Due: 5 p.m. ET 3/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2021.
Nathaniel J. Davis, Sr.,
Deputy Secretary.

[FR Doc. 2021-05250 Filed 3-12-21; 8:45 am]

BILLING CODE 6717-01-P